DEPARTMENT OF LABOR

Employment and Training Administration

[TA-W-59,946]

International Textile Group, New York Sales Office Which Is Comprised of Burlington Worldwide, Burlington House, Cone Denim, New York, NY; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on September 14, 2006, applicable to workers of International Textile Group, New York Sales Office, New York, New York. The notice was published in the Federal Register on September 26, 2006 (71 FR 56171).

At the request of the State agency, the Department reviewed the certification for workers of the subject firm. The workers were engaged in the sales of textiles produced at affiliated manufactories.

Information from the State shows that workers separated from employment at the subject firm had their wages reported under separate unemployment insurance (UI) tax accounts for International Textile Group, New York Sales Office which is comprised of Burlington Worldwide, Burlington House and Cone Denim.

Accordingly, the Department is amending the certification to properly reflect this matter.

The amended notice applicable to TA-W-59,946 is hereby issued as follows:

“All workers of the International Textile Group, New York Sales Office which is comprised on Burlington Worldwide, Burlington House and Cone Denim, New York, New York, who became totally or partially separated from employment on or after August 16, 2005 through September 14, 2008, are eligible to apply for adjustment assistance under Section 223 of the Trade Act of 1974 and are also eligible to apply for Alternative Trade Adjustment Assistance under Section 246 of the Trade Act of 1974.”

Signed at Washington, DC, this 2nd day of March 2007.
Richard Church,
Certifying Officer, Division of Trade Adjustment Assistance.

[FR Doc. E7-4574 Filed 3-13-07; 8:45 am]

BILLING CODE 4510-FN-P